DEPARTMENT OF COMMERCE

National Oceanic and Atmospheric Administration

[RTID 0648-XD846]

Spring Meeting of the Advisory Committee to the U.S. Section to the International Commission for the Conservation of Atlantic Tunas

AGENCY: National Marine Fisheries Service (NMFS), National Oceanic and Atmospheric Administration (NOAA), Commerce.

ACTION: Notice of the Advisory Committee 2024 spring meeting.

SUMMARY: The Advisory Committee to the U.S. Section to the International Commission for the Conservation of Atlantic Tunas (ICCAT) announces its annual spring meeting, to be held April 30-May 1, 2024 in Miami, Florida.

DATES: The open sessions of the Committee meeting will be held on April 30, 2024, 8:30 a.m. to 3:45 p.m. and May 1, 2024, 10:15 a.m. to 4 p.m. Closed sessions will be held on April 30, 2024, 4 p.m. to 6 p.m. and on May 1, 2024, 9 a.m. to 10 a.m. All times are Eastern Daylight Savings time.

ADDRESSES: The meeting will be held at the Courtyard by Marriott Miami Coconut Grove, 2649 South Bayshore Drive, Miami, Florida 33133.

FOR FURTHER INFORMATION CONTACT: Bryan Keller, Office of International Affairs, Trade, and Commerce, (301) 427-7725 or at bryan.keller@noaa.gov.

SUPPLEMENTARY INFORMATION: The Advisory Committee to the U.S. Section to ICCAT will meet in open session to receive and discuss information on the outcomes of ICCAT's 2023 annual meeting and the U.S. implementation of ICCAT decisions; ICCAT intersessional meetings in 2024; relevant NMFS research and monitoring activities; the results of the meetings of the Committee's Species Working Groups; and other matters relating to the international management of ICCAT species. The public will have access to the open sessions of the meeting, but there will be no opportunity for public comment during the meeting. An agenda is available from the Committee's Executive Secretary upon request (see FOR FURTHER INFORMATION CONTACT).

The Committee will meet in its Species Working Groups in closed session in the afternoon of April 30, 2024, and in the morning of May 1, 2024. These sessions are not open to the public, but the results of the Species Working Group discussions will be reported to the full Advisory Committee during the Committee's open session on May 1, 2024.

Special Accommodations

The meeting is accessible to people with disabilities. Requests for auxiliary aids should be directed to Bryan Keller (see FOR FURTHER INFORMATION CONTACT) at least 5 days prior to the meeting date.

Authority: 16 U.S.C. 971 et seq.; 16 U.S.C. 1801 et seq.

Dated: April 5, 2024.
Alexa Cole,
Director, Office of International Affairs, Trade, and Commerce, National Marine Fisheries Service.

[FR Doc. 2024-07616 Filed 4-10-24; 8:45 am]

BILLING CODE 3510-22-P